DEPARTMENT OF HOMELAND SECURITY

Coast Guard

33 CFR Part 165

[Docket No. USCG-2019-0599]

Safety Zones; Fireworks Displays in the Fifth Coast Guard District

AGENCY: Coast Guard, DHS.

ACTION: Notice of enforcement of regulation.

SUMMARY: The Coast Guard will enforce the Penn's Landing, Delaware River, Philadelphia, PA, safety zone on various dates during August 2019. This action is necessary to ensure safety of life on the navigable waters of the United States immediately prior to, during, and immediately after the fireworks displays. During the enforcement periods, vessels may not enter, remain in, or transit through the safety zones during these enforcement periods unless authorized by the Captain of the Port or designated Coast Guard patrol personnel on scene.

DATES: The safety zone in section (a), row (16) of the table to 33 CFR 165.506 will be enforced from 8:30 p.m. through 10:00 p.m. on each of the following dates in 2019: August 1st (with August 7th as an alternate date for inclement weather) and August 31st .

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the safety zone as described in section (a), row (16) of the table to 33 CFR 165.506, as modified by 83 FR 58186, from 8:30 p.m. to 10:00 p.m. on each of the following dates in 2019: August 1st (with August 7th as an alternate date for inclement weather) and August 31st. This action is necessary to ensure safety of life on the navigable waters of the United States immediately prior to, during, and immediately after the fireworks displays. Our regulation for safety zones of fireworks displays within the Fifth Coast Guard District, table to § 165.506, section (a), row (16), specifies the location of the regulated area as all waters of the Delaware River adjacent to Penn's Landing, Philadelphia, PA, within 500 yards of a fireworks launch site at approximate position latitude 39°56′49″ N, longitude 075°08′11″ W. As reflected in § 165.506(d), vessels may not enter, remain in, or transit through the safety zone during the enforcement period unless authorized by the Captain of the Port or designated Coast Guard patrol personnel on scene.

In addition to this notice of enforcement in the Federal Register, the Coast Guard will provide notification of the enforcement periods via broadcast notice to mariners.

Dated: July 29, 2019.
Scott E. Anderson,
Captain, U.S. Coast Guard, Captain of the Port, Delaware Bay.

[FR Doc. 2019-16444 Filed 7-31-19; 8:45 am]

BILLING CODE 9110-04-P